DEPARTMENT OF HEALTH AND HUMAN SERVICES

National Institutes of Health

National Institute of Arthritis and Musculoskeletal and Skin Diseases; Notice of Closed Meetings

Pursuant to section 10(d) of the Federal Advisory Committee Act, as amended (5 U.S.C. Appendix 2), notice is hereby given of the following meetings.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee:National Institute of Arthritis and Musculoskeletal and Skin Diseases Special Emphasis Panel, Muscular Dystrophy Cooperative Research Centers.

Date:March 20-21, 2008.

Time:7 a.m. to 5 p.m.

Agenda:To review and evaluate grant applications.

Place:Gaithersburg Marriott Washingtonian Center, 9751 Washingtonian Boulevard, Gaithersburg, MD 20878.

Contact Person:Kan Ma, PhD, Scientific Review Administrator, NIH/NIAMS, EP Review Branch, One Democracy Plaza, Suite 800, Bethesda, MD 20892-4872, 301-594-4952, mak2@mail.NIH.gov.

Name of Committee:National Institute of Arthritis and Musculoskeletal and Skin Diseases Special Emphasis Panel, Small Research Grants Review.

Date:March 25, 2008.

Time: 8:30 a.m. to 4:30 p.m.

Agenda: To review and evaluate grant applications.

Place: National Institutes of Health, One Democracy Plaza, 6701 Democracy Boulevard, Bethesda, MD 20892.

Contact Person:Eric H. Brown, PhD, Scientific Review Officer, National Institute of Arthritis and Musculoskeletal Skin Diseases, National Institutes of Health, 6701 Democracy Blvd, Room 824, MSC 4872, Bethesda, MD 20892-4874, (301) 594-4955, browneri@mail.nih.gov.

Name of Committee:National Institute of Arthritis and Musculoskeletal and Skin Diseases Special Emphasis Panel, Vascular Diseases Clinical Trial.

Date: April 3, 2008.

Time: 1 p.m. to 4 p.m.

Agenda: To review and evaluate grant applications.

Place: National Institutes of Health, 6701 Rockledge Drive, Bethesda, MD 20892 (Telephone Conference Call).

Contact Person: Charles H. Washabaugh, PhD, Scientific Review Administrator, Review Branch, NIAMS/NIH, 6701 Democracy Blvd, Room 816, Bethesda, MD 20892, 301 451-4838, washabac@mail.nih.gov.

Name of Committee: National Institute of Arthritis and Musculoskeletal and Skin Diseases Special Emphasis Panel, Musculoskeletal Diseases Clinical Trial Planning Grant.

Date: April 4, 2008.

Time: 1 p.m. to 3 p.m.

Agenda: To review and evaluate grant applications.

Place: National Institutes of Health, One Democracy Plaza, 6701 Democracy Boulevard, Bethesda, MD 20892 (Telephone Conference call).

Contact Person: Eric H. Brown, PhD, Scientific Review Officer, National Institute of Arthritis and Musculoskeletal Skin Diseases, National Institutes of Health, 6701 Democracy Blvd, Room 824, MSC 4872, Bethesda, MD 20892-4874, (301) 594-4955, browneri@mail.nih.gov.

(Catalogue of Federal Domestic Assistance Program Nos. 93.846, Arthritis, Musculoskeletal and Skin Diseases Research, National Institutes of Health, HHS)
Dated: February 25, 2008.
Jennifer Spaeth,
Director, Office of Federal Advisory Committee Policy.

[FR Doc. 08-905 Filed 2-29-08; 8:45 am]

BILLING CODE 4140-01-M